DEPARTMENT OF EDUCATION

[CFDA No.: 84.195B]

Bilingual Education: Training for All Teachers Notice Inviting Applications for New Awards for Fiscal Year (FY) 2001

Note to Applicants: This notice is a complete application package. Together with the statute authorizing the program and the applicable regulations governing this program, including the Education Department General Administrative Regulations (EDGAR), this notice contains all of the information, application forms, and instructions needed to apply for a grant under this program.

Purpose of Program

This program provides grants to incorporate courses and curricula on appropriate and effective instructional and assessment methodologies, strategies, and resources specific to limited English proficient students into preservice and inservice professional development programs for teachers, pupil services personnel, administrators, and other educational personnel in order to prepare such individuals to provide effective services to limited English proficient students. The program focuses on the development of coursework and curricula for professional development programs for currently practicing teachers and other educational personnel who provide instruction or support to LEP students, but who do not expect to become bilingual education or English as a second language specialists. Training activities may also include improving the skills of higher education faculty to better prepare all teachers to instruct LEP students. Funds under this program may be used to provide for the development of training programs in collaboration with other programs, such as programs authorized under Titles I and II of this Act and under the Head Start Act.

Eligible Applicants: One or more institutions of higher education (IHEs); one or more local educational agencies (LEAs); one or more State educational agencies (SEAs); or one or more nonprofit organizations (NPOs) which have entered into consortia arrangements with an IHE, LEA, or SEA. organizations.

Deadline for Transmittal of Applications: 12/22/2000.

Deadline for Intergovernmental Review: 2/22/2001.

Available Funds: $10 million.

Estimated Range of Awards: $150,000-$250,000.

Estimated Average Size of Awards: $200,000.

Estimated Number of Awards: 50.

Note: The Administration has requested $10 million for new awards under the Training for All Teachers program in 2001. The actual level of funding, if any, depends upon final congressional action.

Project Period: Up to 60 Months.

Page Limit: The application narrative (Part III of the application) is where you, the applicant, address the selection criteria reviewers use to evaluate your application. You must limit the application narrative to the equivalent of no more than 30 pages, using the following standards:

• A page is 8.5 × 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including budget justification and the cost itemization; Part IV, the assurances and certifications; or the table of contents, the one-page abstract, or the letters of support. However you must include all of the application narrative in Part III.

If, to meet the page limit, you use more than one side of the page, you use a larger page, or you use a print size, spacing, or margins smaller that the standards in this notice, we will reject your application.

Applicable Regulations

(a) The Education Department General Administrative Regulations (EDGAR) in 34 CFR Parts 74, 75, 77, 79, 80, 81, 82, 85, 86, 97, 98 and 99; and 34 CFR Part 299.

Description of Program

The statutory authorization for this program, and the application requirements that apply to this competition, are set out in sections 7142 and 7146-7150 of the Elementary and Secondary Education Act of 1965, as amended by the Improving America's Schools Act of 1994 (Pub. L. 103-382, enacted October 20, 1994) (the Act) (20 U.S.C. 7474 and 7476-7480).

Activities conducted under this program must assist educational personnel in meeting State and local certification requirements for bilingual education and, wherever possible, must lead to the awarding of college or university credit.

Priorities

Competitive Priority

Under 34 CFR 75.105(c)(2)(i) and 34 CFR 299.3(b), we award up to 3 points for an application that meets the competitive priority. These points are in addition to any points the application earns under the selection criteria for the program.

Projects that will contribute to a systemic educational reform in an Empowerment Zone, including a Supplemental Empowerment Zone, or an Enterprise Community designated by the United States Department of Housing and Urban Development or the United States Department of Agriculture, and are made an integral part of the Zone's or Community's comprehensive community revitalization strategies.

A list of areas that have been designated as Empowerment Zones and Enterprise Communities is provided at the end of this notice.

Invitational Priorities

The Secretary is particularly interested in applications that meet the following invitational priorities. However, an application that meets these invitational priorities receives no competitive or absolute preference over other applications (34 CFR 75.105(c)(1)).

(a) Projects that propose to improve the skills of higher education faculty to ensure that all teachers are effectively prepared to teach LEP students.

(b) Projects that incorporate training in family involvement into formal induction programs for beginning secondary teachers or ongoing professional development programs for currently practicing secondary teachers.

Selection Criteria

The Secretary uses the following selection criteria in 34 CFR 75.210 to evaluate applications for new grants under this competition.

The maximum score for all of these criteria is 100 points.

The maximum score for each criterion is indicated in parentheses.

(a) Significance. (10 points) (1) The Secretary considers the significance of the proposed project.

(2) In determining the significance of the proposed project the Secretary considers the likelihood that the proposed project will result in system change or improvement.

(b) Need for project. (10 points) (1) The Secretary considers the need for the proposed project.

(2) In determining the need for the proposed project, the Secretary considers the following factors:

(i) The magnitude or severity of the problem to be addressed by the proposed project.

(ii) The extent to which specific gaps or weaknesses in services, infrastructure, or opportunities have been identified and will be addressed by the proposed project, including the nature and the magnitude of those gaps or weaknesses.

(c) Quality of the project design. (45 points) (1) The Secretary considers the quality of the design of the proposed project.

(2) In determining the quality of the design of the proposed project, the Secretary considers the following factors:

(i) The extent to which the goals, objectives, and outcomes to be achieved by the proposed project are clearly specified and measurable.

(ii) The extent to which the design of the proposed project is appropriate to, and will successfully address, the needs of the target population or other identified needs.

(iii) The extent to which the proposed project is designed to build capacity and yield results that will extend beyond the period of Federal financial assistance.

(iv) The extent to which the design of the proposed project reflects up-to-date knowledge from research and effective practice.

(v) The extent to which the proposed project will be coordinated with similar or related efforts, and with other appropriate community, State, and Federal resources.

(vi) The extent to which the proposed project represents an exceptional approach for meeting the statutory purposes and requirements.

(d) Quality of project services. (5 points) (1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(e) Quality of project personnel. (5 points) (1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factor: the qualifications, including relevant training and experience, of key project personnel.

(f) Quality of the management plan. (5 points) (1) The Secretary considers the quality of the management plan for the proposed project.

(2) In determining the quality of the management plan for the proposed project, the Secretary considers the following factor: the adequacy of the management plan to achieve the objectives of the proposed project on time and within budget, including clearly defined responsibilities, timelines, and milestones for accomplishing project tasks.

(g) Quality of the project evaluation. (20 points) (1) The Secretary considers the quality of the evaluation to be conducted of the proposed project.

(2) In determining the quality of the evaluation, the Secretary considers the following factors:

(i) The extent to which the methods of evaluation provide for examining the effectiveness of project implementation strategies.

(ii) The extent to which the methods of evaluation include the use of objective performance measures that are clearly related to the intended outcomes of the project and will produce quantitative and qualitative data to the extent possible.

(iii) The extent to which the methods of evaluation will provide performance feedback and permit periodic assessment of progress toward achieving intended outcomes.

Intergovernmental Review Of Federal Programs

This program is subject to the requirements of Executive Order 12372 (Intergovernmental Review of Federal Programs) and the regulations in 34 CFR Part 79.

One of the objectives of the Executive order is to foster an intergovernmental partnership and a strengthened federalism. The Executive order relies on processes developed by State and local governments for coordination and review of proposed Federal financial assistance.

If you are an applicant you must contact the appropriate State Single Point of Contact (SPOC) to find out about, and to comply with, the State's process under Executive order 12372.

If you propose to perform activities in more than one State, you should immediately contact the SPOC for each of those States and follow the procedure established in each State under the Executive order. If you want to know the name and address of any SPOC, see the list in the appendix to this application notice; or you may view the latest official SPOC list on the Web site of the Office of Management and Budget at the following address: http://www.whitehouse.gov/omb/grants.

In States that have not established a process or chosen a program for review, State, areawide, regional, and local entities may submit comments directly to the Department.

Any State Process Recommendation and other comments submitted by a SPOC and any comments from State, areawide, regional, and local entities must be mailed or hand-delivered by the date indicated in this notice to the following address: The Secretary, E.O. 12372—CFDA # 84.195B, U.S. Department of Education, Room 7E200 400 Maryland Avenue, SW., Washington, D.C. 20202-0125.

We will determine proof of mailing under 34 CFR 75.102 (Deadline date for applications). Recommendations or comments may be hand-delivered until 4:30 p.m. (Washington, D.C. time) on the date indicated in this notice.

Please note that the above address is not the same address as the one to which the applicant submits its completed application. Do not send applications to the above address. Instructions for Transmittal of Applications

If you want to apply for a grant and be considered for funding you must meet the following deadline requirements:

(a) If you send your application by mail—

You must mail the original and two copies of the application on or before the deadline date to: U.S. Department of Education, Application Control Center, Attention: (CFDA# 84.195B), Washington, D.C. 20202-4725.

You must show one of the following as proof of mailing.

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(b) Hand-deliver the original and two copies of the application by 4:30 p.m. (Washington, D.C. time) on or before the deadline date to: U.S. Department of Education, Application Control Center, Attention: (CFDA# 84.195B), Room #3633, Regional Office Building #3, 7th and D Streets, SW., Washington, D.C.

The Application Control Center accepts application deliveries daily between 8:00 a.m. and 4:30 p.m. (Washington, D.C. time), except Saturdays, Sundays and Federal holidays. The Center accepts application deliveries through the D Street entrance only. A person delivering an application must show identification to enter the building.

(c) If you submit your application by courier—You must deliver the original and two copies of your application to the courier service on or before the deadline date. You must show as proof of delivery to the courier service a dated shipping label, invoice, or receipt from the courier service. The courier service must deliver your application to: U.S. Department of Education, Application Control Center, Attn: (84.195B), Room 3633, Regional Office Building, 7th and D Streets, SW., Washington, D.C.

The Application Control Center accepts application deliveries daily between 8:00 a.m. and 4:30 p.m. (Washington, D.C. time), except Saturdays, Sundays and Federal holidays. The Center accepts application deliveries through the D Street entrance only. A courier delivering an application must show identification to enter the building.

Notes: (1) The U.S. Postal Service does not uniformly provide a dated postmark. Before relying on this method, an applicant should check with its local post office.

(2) If you send your application by mail or deliver it by hand or by a courier service, the Application Control Center will mail a Grant Application Receipt Acknowledgment to each applicant. If an applicant fails to receive the notification of application receipt within 15 days from the date of mailing the application, the applicant should call the U.S. Department of Education Application Control Center at (202) 708-9495.

(3) You must indicate on the envelope and—if not provided by the Department—in Item 3 of the Application for Federal Assistance (Standard Form 424) the CFDA number and suffix letter, if any, of the competition under which the application is being submitted.

Application Instructions and Forms

The appendix to this notice contains the following forms and instructions plus a statement regarding estimated public reporting burden, a notice to applicants regarding compliance with section 427 of the General Education Provisions Act, questions and answers on this program (located at the end of the notice) and various assurances, certifications, and required documentation:

a. Estimated Public Reporting Burden

b. Application Instructions

c. Nonregulatory Guidance: Questions and Answers

d. Checklist for Applicants

e. List of Empowerment Zones and Enterprise Communities

f. Application for Federal Education Assistance (ED 424) and instructions

g. Group Application Form

h. Budget Information

i. Participant Data

j. Project Documentation

k. Program Assurances

l. Assurances—Non-Construction Programs (Standard Form 424B) and instructions

m. Certifications Regarding Lobbying; Debarment, Suspension, and Other Responsibility Matters; and Drug-Free Workplace Requirements (ED 80-0013) and instructions

n. Certification Regarding Debarment, Suspension, Ineligibility and Voluntary Exclusion—Lower Tier Covered Transactions (ED 80-0014) and instructions

Note: This form is intended for the use of grantees and should not be transmitted to the Department.

o. Disclosure of Lobbying Activities (Standard Form LLL) (if applicable) and instructions. The document has been marked to reflect statutory changes

p. Notice to All Applicants (GEPA Requirement) and Instructions (OMB No. 1801-0004)

An applicant may submit information on a photostatic copy of the application and budget forms, the assurances, and the certifications. However, the application form, the assurances, and the certifications must each have an original signature. All applicants must submit ONE original signed application, including ink signatures on all forms and assurances, and TWO copies of the application. Please mark each application as “original” or “copy”. No grant may be awarded unless a completed application has been received.

FOR FURTHER INFORMATION CONTACT: Petraine Johnson or Franklin Reid US Department of Education, 400 Maryland Avenue, SW., Room 5090, Switzer Building, Washington, D.C. 20202-6510. Telephone: Petraine Johnson: (202) 205-8766; Franklin Reid: (202) 205-9803 E-mail address: Franklin_Reid@ed.gov; Petraine_Johnson@ed.gov.

If you use a telecommunications device for the deaf (TDD) you may call the Federal Information Relay Service (FIRS) at 1-800-877-8339. Individuals with disabilities may obtain this notice in an alternative format (e.g., braille, large print, audiotape, or computer diskette) on request to the contact persons listed in the preceding paragraph. Please note, however, that the Department is not able to reproduce in an alternative format the standard forms included in the notice.

Electronic Access to This Document

You may view this document, as well as all other Department of Education documents published in the Federal Register, in text or portable document format (PFD) on the Internet at either of the following sites:

http://ocfo.ed.gov/fedreg.htm

http://www.ed.gov/news.html

To use PFD you must have Adobe Acrobat Reader, which is available free at either of the preceding sites. If you have questions about using PDF, call the U.S. Government Printing Office toll free at 1-888-293-6498; or in the Washington, D.C. area at (202) 512-1530.

Note: The official version of this document is the document published in the Federal Register. Free Internet access to the official edition of the Federal Register and the Code of Federal Regulations is available at GPO access at: http://www.access.gpo.gov.nara.index.html

Program Authority: 20 U.S.C. 7474.

Dated: November 11, 2000.
Art Love,
Acting Director, Office of Bilingual Education and Minority Languages Affairs.

Appendix

Estimated Burden Statement

According to the Paperwork Reduction Act of 1995, you are not required to respond to a collection of information unless it displays a valid OMB control number. The valid OMB control number for this information collection is OMB No. 1885-0542, Exp. Date: 12/31/01. We estimate the time required to complete this information collection is estimated to average 120 hours per response, including the time to review instructions, search existing data resources, gather the data needed, and complete and review the information collection.

If you have any comments concerning the accuracy of the time estimate or suggestions for improving this form, please write to: U.S. Department of Education, Washington, D.C. 20202-4651.

If you have any comments or concerns regarding the status of your individual submission of this form, write directly to: Office of Bilingual Education and Minority Languages Affairs, U.S. Department of Education, 400 Maryland Avenue, SW., Washington, D.C. 20202-6510.

Application Instructions

Abstract

The narrative section should be preceded by a one-page abstract that includes a short description of the population to be served by the project, project objectives, planned activities, and invitational priorities the project proposes to address.

Selection Criteria

The narrative should address fully all aspects of the selection criteria in the order listed and should give detailed information regarding each criterion. Do not simply paraphrase the criteria. Do not include resumes. Instead, provide position descriptions for key personnel. Do not include bibliographies, letters of support, or appendices in your application. This package includes questions and answers to assist you in preparing the narrative portion of your application.

Empowerment Zone/Enterprise Community Priority

Applicants that wish to be considered under the competitive priority for Empowerment Zones and Enterprise Communities, as specified in a previous section of this notice, should identify in Section D of the Project Documentation Form the Applicable Empowerment Zone or Enterprise Community. The application narrative should describe the extent to which the proposed project will contribute to systemic educational reform in the particular Empowerment Zone or Enterprise Community and be an integral part of the Zone's or Community's comprehensive revitalization strategies. A list of areas that have been designated as Empowerment Zones and Enterprise Communities is provided at the end of this notice.

Table of Contents

The application should include a table of contents listing the various parts of the narrative in the order of the selection criteria. Be sure that the table includes the page numbers where the parts of the narrative are found.

Budget

Budget line items must support the goals and objectives of the proposed project and be directly applicable to the program design and all other project components. A separate budget summary and cost itemization must be provided. Prepare an itemized budget for each year of requested funding.

Indirect costs for institutions of higher education which are the fiscal agents for Training for All Teachers are limited to the lower of either 8 percent of a modified total direct cost base or the institution for higher education's actual indirect cost agreement. A modified direct cost base is defined as total direct costs less stipends, tuition and related fees and capital expenditures of $5,000 or more. In describing student support costs distinguish costs for tuition and fees from costs for stipends.

Submission of Application to State Educational Agency

Section 7146(a)(4) of the Act (Elementary and Secondary Education Act of 1965, as amended by the Improving America's Schools Act of 1994, Pub. L. 103-382) requires all applicants except schools funded by the Bureau of Indian Affairs to submit a copy of their application to their State educational agency (SEA) for review and comment (20 U.S.C. 7476(a)(4)).

Section 75.156 of the Education Department General Administrative Regulations (EDGAR) requires these applicants to submit their application to the SEA on or before the deadline date for submitting their application to the Department of Education. This section of EDGAR also requires applicants to attach to their application a copy of their letter that requests the SEA to comment on the application (34 CFR 75.156). A copy of this letter should be attached to the Project Documentation Form contained in this application package.

Applicants that do not submit a copy of their application to their SEA will not be considered for funding. Applicants are reminded that the requirement for submission to the State Educational Agency and the requirements for Executive Order 12372 are two separate requirements.

Final Application Preparation

Use the following checklist to verify that all necessary items are addressed. Prepare one original with an original signature, and include two additional copies. Do not use elaborate bindings or covers. The application package must be mailed to the Application Control Center (ACC) and postmarked by the deadline date published in the closing date notice.

Checklist for Applicants

The following forms and other items must be included in the application:

1. Application for Federal Assistance (SF 424)

2. Group Application Certification (to be signed by authorized Representative of LEA in consortia with the applicant)

3. Budget Information (ED Form No. 524)

4. Itemized Budget for each year (attached to ED Form No. 524)

5. Participant Data (approximate number of participants to be served each year)

6. Project Documentation

Section A—Copy of Transmittal Letter to SEA requesting SEA to comment on application

Section B—Documentation of Empowerment Zone or Enterprise Community (f applicable)

7. Program Assurances

8. Non-Construction Programs (SF 424B)

9. Certifications Regarding Lobbying; Debarment, Suspension and Other Responsibility Matters; and Drug-Free Workplace Requirements (ED 80-0013)

10. Certification Regarding Debarment, Suspension, Ineligibility and Voluntary Exclusion—Lower Tier Covered Transactions (ED 80-0014)

11. Disclosure of Lobbying Activities (SF-LLL)

12. Notice to all Applicants (See form provided below)

13. Table of Contents

14. One-page single-spaced abstract

15. Application narrative (Not to exceed 30 double-spaced pages, see instructions below)

16. One original and two copies of the application to the Department of Education Application Control Center

17. One copy to the State Education Agency

18. One copy to the State Single Point of Contact

Questions and Answers

May Training for All Teachers Programs Provide Training to Participants?

In addition to developing and revising courses and curricula for professional development programs for all teachers, applicants may implement training activities for currently practicing teachers and other educational personnel, including beginning teachers, who are not bilingual education or English as a second language specialists, but who provide services to LEP students. The program addresses the need for teachers and other educational personnel to acquire knowledge and skills necessary to provide appropriate and effective services to limited English proficient students and their families.

What Factors Should Be Considered in Designing a Training for All Teachers Program?

Applicants should consider the characteristics and conditions that foster high-quality professional development, including sustained intensive training activities that are focused on a manageable number of participants. In determining the number of participants to be served, applicants should consider the capability of the program to provide high-quality professional development for all participants and to effectively evaluate improved teaching and learning as a result of the program. Applicants are reminded that program participants may include higher education faculty as well as inservice teachers of other educational personnel. Applicants should not propose programs that are so large in scope that they dilute the quality of training.

What Are the Certification Requirements for the Training for all Teachers Program?

The Title VII statute requires grantees to assist educational personnel in meeting state and local certification requirements. Courses and curricula developed, revised or offered must be part of a program, which would lead to State and local certification. However, it is not a requirement that participants trained under the program complete certification requirements during the course of the grant. Emphasis should be placed on the acquisition of knowledge and skills in order to meet the needs of limited English proficient students.

What Information May Be Helpful in Preparing a Aarrative for Training for All Teachers Grant?

Information on the Training for All Teachers Program is available through the OBEMLA Website: http://www.ed.gov/offices/OBEMLA. First click on Funding opportunities, then go to Professional Development Programs.

In responding to the selection criteria applicants may wish to consider the following questions as a guide for preparing the application narrative:

• What are the specific responsibilities of schools, districts, institutions of higher education and other partnership organizations in planning, implementing and evaluating the proposed program?

• How will the training curricula incorporate high standards for teaching and learning?

• How is the proposed program linked to a comprehensive school-wide plan to improve professional development programs for all teachers related to the needs of limited English proficient students?

• How will the products of the proposed program be integrated into professional development program activities for all teachers?

• How will the program assist in systemically reforming local policies and practices related to the training of teachers to improve instructional services for LEP students?

• What performance indicators will the proposed program use to assess the effectiveness of the program? What are the expected outcomes for participant learning, improved teaching practices, improved student achievement, reform of professional development in the school or university, or improved skills of higher education faculty?

• What professional development activities are planned for school staff development specialists, or for higher education faculty to ensure that they are effectively prepared to provide training to prepare all teachers related to the needs of LEP students?

In addition, applicants may wish to consider the Department of Education Professional Development Principles in planning Training for All Teachers Program. The following are the Professional Development Principles: Professional Development: Focuses on teachers as central to student learning, yet includes all other members of the school community; Focuses on individual, collegial and organizational improvement; Respects and nurtures the intellectual and leadership capacity of teachers, principals, and others in the school community; Reflects best available research and practice in teaching, learning, and leadership; enables teachers to develop further expertise in subject content, teaching strategies, uses of technologies, and other essential elements in teaching to high standards; promotes continuous inquiry and improvement embedded in the daily life of schools; is planned collaboratively by those who will participate in and facilitate that development; requires substantial time and other resources; is driven by a coherent long-term plan; is evaluated ultimately on the basis of its impact on teacher effectiveness and student learning; and this assessment guides subsequent professional development efforts.

BILLING CODE 4000-01-P

[FR Doc. 00-28657 Filed 11-07-00; 8:45 am]

BILLING CODE 4000-01-C